INTERNATIONAL TRADE COMMISSION

[Investigation No. 337-TA-516]

In the Matter of Certain Disc Drives, Components Thereof, and Products Containing Same; Notice of a Commission Determination Not To Review an Initial Determination Terminating the Investigation on the Basis of a Settlement Agreement

AGENCY: U.S. International Trade Commission.

ACTION: Notice.

SUMMARY: Notice is hereby given that the U.S. International Trade Commission has determined not to review the presiding administrative law judge's (“ALJ's”) initial determination (“ID”) granting a joint motion to terminate the above-captioned investigation on the basis of a settlement agreement.

FOR FURTHER INFORMATION CONTACT: Timothy P. Monaghan, Esq., Office of the General Counsel, U.S. International Trade Commission, 500 E Street, SW., Washington, DC 20436, telephone 202-205-3152. Copies of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this investigation on August 5, 2004, based on a complaint filed on behalf of Seagate Technology, LLC (“Seagate”). 69 FR 47460 (Aug. 5, 2004). The complaint, as supplemented, alleged violations of section 337 in the importation into the United States, sale for importation, and sale within the United States after importation of certain disc drives, components thereof, and products containing same by reason of infringement of certain claims of seven U.S. patents, including U.S. Patent Nos. 6,744,606 (“the ‘606 patent”); 5,596,461 (“the ‘461 patent”); and 5,600,506 (“the ’506 patent”). The notice of investigation named Cornice, Inc. (“Cornice”) of Longmont, Colorado as the sole respondent.

On December 28, 2004, the ALJ issued Order No. 6, an ID granting in part a motion for summary determination of invalidity of the asserted claims of the ‘606 patent. On January 28, 2005, the Commission determined to review and reverse Order No. 6.

On March 7, 2005, the ALJ issued Order No. 8 granting Cornice's motion for summary determination of noninfringement of the ’461 patent, and denying Seagate's cross-motion for summary determination of infringement of the ’461 patent. No petitions for review of Order No. 8 were filed. On March 29, 2005, the Commission determined not to review Order No. 8.

On February 24, 2005, complainant Seagate moved to amend the notice of investigation. Seagate requested that the notice of investigation be amended to add claims 2-4 and 23-26 of the ’506 patent, and to remove claims 5-7 and 28-31 of the ’506 patent. On March 21, 2005, the ALJ issued Order No. 10, granting complainants' motion to amend the notice of the investigation. The Commission determined not to review Order No. 10.

On April 29, 2005, complainants and respondents filed a joint motion to terminate the investigation on the basis of a settlement agreement. On May 13, 2005, the ALJ issued the subject ID (Order No. 15) granting the joint motion to terminate.

No party filed a petition to review the subject ID.

This action is taken under the authority of section 337 of the Tariff Act of 1930, 19 U.S.C. 1337, and section 210.42 of Rules of Practice and Procedure, 19 CFR 210.42.

By order of the Commission.
Issued: May 27, 2005.
Marilyn R. Abbott,
Secretary to the Commission.

[FR Doc. 05-11053 Filed 6-2-05; 8:45 am]

BILLING CODE 7020-02-P